DEPARTMENT OF TRANSPORTATION

Federal Aviation Administration

[Docket No. FAA-2026-1325]

Notice of Intent To Designate as Abandoned New Systems Supplemental Type Certificates

AGENCY: Federal Aviation Administration (FAA), DOT.

ACTION: Notice of intent to designate supplemental type certificates as abandoned; request for comments.

SUMMARY: This notice announces the FAA's intent to designate thirty New Systems (also known as New Systems Engineering) Supplemental Type Certificates (STCs) as abandoned and make the related engineering data available upon request. The FAA has received a request to provide engineering data concerning these STCs. The FAA has been unsuccessful in contacting New Systems concerning these STCs. This action is intended to enhance aviation safety.

DATES: The FAA must receive all comments by August 17, 2026.

ADDRESSES: You may send comments on this notice by any of the following methods:

• Federal eRulemaking Portal: Go to regulations.gov. Follow the instructions for submitting comments.

• Mail: Aourolia Kristianti, AIR-761, FAA, Central Certification Branch, 1801 South Airport Rd., Room 100, Wichita, KS 67209.

• Email: 9-AVS-CCB-Correspondence@faa.gov. Include “Docket No. FAA-2026-1325” in the subject line of the message.

• Hand Delivery: Deliver to Mail address above between 9 a.m. and 5 p.m., Monday through Friday, except Federal holidays.

FOR FURTHER INFORMATION CONTACT: Aourolia Kristianti, Aviation Safety Specialist, FAA, Central Certification Branch, 1801 South Airport Rd., Room 100, Wichita, KS 67209; telephone: (316) 946-4121; email: 9-AVS-CCB-Correspondence@faa.gov.

SUPPLEMENTARY INFORMATION:

Comments Invited

The FAA invites interested parties to provide comments, written data, views, or arguments relating to this notice. Send your comments using a method listed under the ADDRESSES section. Include “Docket No. FAA-2026-1325” at the beginning of your comments. The FAA will consider all comments received on or before the closing date. All comments received will be available in the docket for examination by interested persons.

Background

The FAA is posting this notice to inform the public that the FAA intends to designate as abandoned and subsequently release the related engineering data for the following New Systems STC Nos.: SA01656AT, SA09171AC, SA09173AC, SA09176AC, SA09242AC, SA09248AC, SA09317SC, SA09320SC, SA8012SW, SA8074SW, SA8077SW, SA8139SW, SA8590SW, SA8656SW, SA8658SW, SA8694SW, SA8708SW, SA8831SW, SA8983SW, SA8984SW, ST09116AC, ST09143SC, ST09156SC, ST09243AC, ST09260SC, ST09318SC, ST09344SC, ST09345SC, ST09384SC, and ST09566SC. Descriptions of the STC design changes and affected aircraft models are available at https://drs.faa.gov/browse/STC/doctypeDetails.

The FAA has received a third-party request for the release of the aforementioned engineering data under the provisions of the Freedom of Information Act (FOIA), 5 U.S.C. 552. The FAA cannot release commercial or financial information under FOIA without the permission of the data owner. However, in accordance with title 49 of the United States Code § 44704(a)(5), the FAA can provide STC “engineering data” it possesses for STC maintenance or improvement, upon request, if the following conditions are met:

1. The FAA determines the STC has been inactive for 3 years or more;

2. Using due diligence, the FAA is unable to locate the owner of record or the owner of record's heir; and

3. The availability of such data will enhance aviation safety.

There has been no activity on this STC for more than 3 years.

On December 15, 2025, the FAA sent registered letters to New Systems to its last known addresses: 1201 North Industrial Blvd., Round Rock, TX 78681; and 1105 FM 1825, Pflugerville, TX 78660. The letter informed New Systems that the FAA had received a request for engineering data related to STC Nos. SA8074SW and SA8012SW and was conducting a due diligence search to determine whether these STCs and 28 other STCs were inactive and may be considered abandoned. The letter further requested that the company respond in writing within 60 days and state whether it is the holder of these 30 STCs. The FAA has also attempted to make contact with New Systems by other means, including telephone communication and emails, but without success.

Information Requested

If you are the owner or heir or a transferee of STC Nos. SA01656AT, SA09171AC, SA09173AC, SA09176AC, SA09242AC, SA09248AC, SA09317SC, SA09320SC, SA8012SW, SA8074SW, SA8077SW, SA8139SW, SA8590SW, SA8656SW, SA8658SW, SA8694SW, SA8708SW, SA8831SW, SA8983SW, SA8984SW, ST09116AC, ST09143SC, ST09156SC, ST09243AC, ST09260SC, ST09318SC, ST09344SC, ST09345SC, ST09384SC, or ST09566SC, or have any knowledge regarding who may now hold any of these STCs, please contact Aourolia Kristianti using a method described in this notice under FOR FURTHER INFORMATION CONTACT. If you are the heir of the owner, or the owner by transfer of any of these STCs, you must provide a notarized copy of your government-issued identification with a letter and background establishing your ownership of any of the STCs and, if applicable, your relationship as the heir to the deceased holder of the STCs.

Conclusion

If the FAA does not receive any response by August 17, 2026, the FAA will consider STC Nos. SA01656AT, SA09171AC, SA09173AC, SA09176AC, SA09242AC, SA09248AC, SA09317SC, SA09320SC, SA8012SW, SA8074SW, SA8077SW, SA8139SW, SA8590SW, SA8656SW, SA8658SW, SA8694SW, SA8708SW, SA8831SW, SA8983SW, SA8984SW, ST09116AC, ST09143SC, ST09156SC, ST09243AC, ST09260SC, ST09318SC, ST09344SC, ST09345SC, ST09384SC, and ST09566SC abandoned, and the FAA will proceed with the release of the requested data. This action is for the purpose of maintaining the airworthiness of an aircraft and enhancing aviation safety.

(Authority: 49 U.S.C. 44704(a)(5).)

Issued on February 10, 2026.
Steven W. Thompson,
Acting Deputy Director, Compliance & Airworthiness Division, Aircraft Certification Service.

[FR Doc. 2026-03046 Filed 2-13-26; 8:45 am]

BILLING CODE 4910-13-P